DEPARTMENT OF ENERGY

Federal Energy Regulatory Commission

[Docket No. CP19-502-000]

Commonwealth LNG, LLC; Notice Suspending Environmental Review Schedule

The Federal Energy Regulatory Commission (FERC or Commission) is suspending the environmental review schedule for Commonwealth LNG, LLC's (Commonwealth) proposed liquefied natural gas (LNG) export terminal in Cameron Parish, Louisiana. The notice of schedule, issued on October 15, 2019, identified a May 2020 draft Environmental Impact Statement (EIS) issuance date and an October 2, 2020 final EIS issuance date. This schedule was based upon Commonwealth providing complete and timely responses to any data requests. In its February 4, 2020 partial response to staff's January 2, 2020 data request, Commonwealth stated it would provide the remainder of the outstanding responses in stages through July 2020, including an official interpretation from the United States Department of Transportation—Pipeline and Hazardous Material Safety Administration (PHMSA) in June 2020 pertaining to Commonwealth's proposed LNG storage tank design.

Because the outstanding data responses to staff's data request and the issuance of the PHMSA interpretation are expected after the previously announced draft EIS date, the Commission will suspend the environmental review schedule for the project. Once staff has reviewed both the responses and the PHMSA interpretation, the Commission will issue a revised schedule for the draft and final EIS. This is not a suspension of the Commission staff's review of Commonwealth's project. Staff will continue to process Commonwealth's proposal to the extent possible based upon the information Commonwealth has filed to date while awaiting the responses and the PHMSA interpretation.

Additional Information

In order to receive notification of the issuance of the EIS and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP19-502), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: March 16, 2020.
Kimberly D. Bose,
Secretary.

[FR Doc. 2020-06232 Filed 3-24-20; 8:45 am]

BILLING CODE 6717-01-P